DEPARTMENT OF COMMERCE

National Oceanic and Atmospheric Administration

50 CFR Part 648

RTID 0648-XX025

Fisheries of the Northeastern United States; Summer Flounder Fishery; Quota Transfer From MD to NJ

AGENCY: National Marine Fisheries Service (NMFS), National Oceanic and Atmospheric Administration (NOAA), Commerce.

ACTION: Announcement of quota transfer.

SUMMARY: NMFS announces that the State of Maryland is transferring a portion of its 2019 commercial summer flounder quota to the State of New Jersey. This quota adjustment is necessary to comply with the Summer Flounder, Scup, and Black Sea Bass Fishery Management Plan quota transfer provisions. This announcement informs the public of the revised 2019 commercial quotas for Maryland and New Jersey.

DATES: Effective November 18, 2019, through December 31, 2019.

FOR FURTHER INFORMATION CONTACT: Laura Hansen, Fishery Management Specialist, (978) 281-9225.

SUPPLEMENTARY INFORMATION: Regulations governing the summer flounder fishery are found in 50 CFR 648.100 through 648.110. These regulations require annual specification of a commercial quota that is apportioned among the coastal states from Maine through North Carolina. The process to set the annual commercial quota and the percent allocated to each state is described in § 648.102 and final 2019 allocations were published on May 17, 2019 (84 FR 22392).

The final rule implementing Amendment 5 to the Summer Flounder Fishery Management Plan (FMP), as published in the Federal Register on December 17, 1993 (58 FR 65936), provided a mechanism for transferring summer flounder commercial quota from one state to another. Two or more states, under mutual agreement and with the concurrence of the NMFS Greater Atlantic Regional Administrator, can transfer or combine summer flounder commercial quota under § 648.102(c)(2). The Regional Administrator is required to consider three criteria in the evaluation of requests for quota transfers or combinations: The transfer or combinations would preclude the overall annual quota from being fully harvested; the transfer addresses an unforeseen variation or contingency in the fishery; and, the transfer is consistent with the objectives of the FMP and the Magnuson-Stevens Act.

Maryland is transferring 15,220 lb (6,904 kg) of summer flounder commercial quota to New Jersey. This transfer was requested to repay landings made by a Maryland-permitted vessel in New Jersey under a safe harbor agreement. Based on the revised Summer Flounder, Scup, and Black Sea Bass Specifications, the summer flounder quotas for fishing year 2019 are now: Maryland, 208,734 lb (94,680 kg); and, New Jersey, 1,855,396 lb (841,593 kg).

Authority: 16 U.S.C. 1801 et seq.

Dated: November 14, 2019.
Jennifer M. Wallace,
Acting Director, Office of Sustainable Fisheries, National Marine Fisheries Service.

[FR Doc. 2019-25053 Filed 11-18-19; 8:45 am]

BILLING CODE 3510-22-P